SECURITIES AND EXCHANGE COMMISSION

Sunshine Act Meeting

Federal Register Citation of Previous Announcement: [73 FR 10828, February 28, 2008].

Status: Closed Meeting.

Place: 100 F Street, NE., Washington, DC.

Date and Time of Previously Announced Meeting: March 3, 2008 at 2 p.m.

Change in the Meeting: Additional Item.

The following matter will also be considered during the 2 p.m. Closed Meeting scheduled for Monday, March 3, 2008:

An adjudicatory matter.

Commissioner Casey, as duty officer, determined that no earlier notice thereof was possible.

At times, changes in Commission priorities require alterations in the scheduling of meeting items. For further information and to ascertain what, if any, matters have been added, deleted or postponed, please contact the Office of the Secretary at (202) 551-5400.

Dated: February 29, 2008.
Nancy M. Morris,
Secretary.

[FR Doc. E8-4228 Filed 3-4-08; 8:45 am]

BILLING CODE 8011-01-P